DEPARTMENT OF JUSTICE

Antitrust Division

Notice Pursuant to the National Cooperative Research and Production Act of 1993—Joint Venture Under TIP Award Number: 70NANB10H012

Notice is hereby given that, on January 14, 2010, pursuant to Section 6(a) of the National Cooperative Research and Production Act of 1993, 15 U.S.C. 5 4301 et seq. (“the Act”), the Joint Venture under TIP Award Number: 70NANB10H012 (“JVTIP70NANB10H012”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Pixelligent Technologies, LLC, College Park, MD; and Brewer Science, Inc., Rolla, MO. The general area of JVTIP70NANE10H012's planned activity is to develop new processes and technologies to scale up the production of high-quality nanocomposites, nanocrystals dispersed in polymers, to create materials with enhanced performance and new functionality that cannot be provided by polymers or traditional composites.

Patricia A. Brink,
Deputy Director of Operations, Antitrust Division.

[FR Doc. 2010-3093 Filed 2-19-10; 8:45 am]

BILLING CODE 4410-11-M